DEPARTMENT OF HEALTH AND HUMAN SERVICES

National Institutes of Health

Request for Information: The National Toxicology Program Interagency Center for the Evaluation of Alternative Toxicological Methods Requests Data and Information on Devices and/or Technologies Used for Identifying Potential Inhalation Hazards

SUMMARY: The National Toxicology Program (NTP) Interagency Center for the Evaluation of Alternative Toxicological Methods (NICEATM) requests available data and information on devices and/or technologies currently used for identifying potential inhalation hazards. Submitted information will be used to assess the state of the science and determine the technical needs for a dynamic nonanimal system to assess the potential toxicity of inhaled chemicals and nanomaterials.

DATES: The deadline for receipt of information is July 18, 2014.

ADDRESSES: Data and information should be submitted electronically to niceatm@niehs.nih.gov.

FOR FURTHER INFORMATION CONTACT: Dr. Warren S. Casey, Director, NICEATM; email: warren.casey@nih.gov; telephone: (919) 316-4729.

SUPPLEMENTARY INFORMATION:

Background: NICEATM fosters the evaluation and promotion of alternative test methods for regulatory use in acute toxicity assessment. Efforts to date have focused primarily on assessing test methods for oral and dermal hazards with limited efforts directed towards identifying alternatives for inhalation toxicity assessment. NICEATM is interested in receiving information on the state of the science regarding alternative test methods and testing strategies for acute or sub-chronic inhalation toxicity. This information will be used to determine the technical requirements for developing effective inhalation toxicity tools to assess potential chemical and nanomaterial hazards without the use of animals in testing.

Request for Information: NICEATM requests available data and information on devices and/or technologies currently used to identify potential inhalation hazards. To that end, NICEATM requests that respondents provide information on any activities relevant to the development or validation of alternatives to in vivo inhalation toxicity test methods currently required by regulatory agencies, including submission of substance-specific data derived from non-animal tests to identify acute or sub-chronic inhalation hazard potential. If available, corresponding in vivo data obtained for these substances are also requested, including data from any ethical human or animal studies or accidental human exposures.

Respondents to this request for information should include their name, affiliation (if applicable), mailing address, telephone, email, and sponsoring organization (if any) with their communications. The deadline for receipt of the requested information is July 18, 2014. Responses to this notice will be posted at http://ntp.niehs.nih.gov/go/41624 and persons submitting them will be identified by name and affiliation or sponsoring organization, if applicable.

Responses to this request are voluntary. No proprietary, classified, confidential, or sensitive information should be included in responses. This request for information is for planning purposes only and is not a solicitation for applications or an obligation on the part of the U.S. Government to provide support for any ideas identified in response to the request. Please note that the U.S. Government will not pay for the preparation of any information submitted or for its use of that information.

Background Information on NICEATM: NICEATM conducts data analyses, workshops, independent validation studies, and other activities to assess new, revised, and alternative test methods and strategies. NICEATM also provides support for the Interagency Coordinating Committee on the Validation of Alternative Methods (ICCVAM). The ICCVAM Authorization Act of 2000 (42 U.S.C. 285l-3) provides authority for ICCVAM and NICEATM in the development of alternative test methods. Information about NICEATM and ICCVAM is found at http://ntp.niehs.nih.gov/go/niceatm and http://ntp.niehs.nih.gov/go/iccvam.

Dated: June 13, 2014.
John R. Bucher,
Associate Director, National Toxicology Program.

[FR Doc. 2014-14300 Filed 6-18-14; 8:45 am]

BILLING CODE 4140-01-P